DEPARTMENT OF THE TREASURY

Community Development Financial Institutions Fund

CDFI and NACA Program Paperwork Reduction Act (PRA), Correction

ACTION: Notice and request for public comment, correction.

SUMMARY: The Department of the Treasury, Community Development Financial Institutions Fund (the CDFI Fund) published a document in the Federal Register/Vol. 88, No. 42/Friday, March 3, 2023/Notices. The CDFI Fund is issuing a correction related to page 13512 in the second column, 13. FA Objectives, second paragraph: a. The CDFI Fund proposes to eliminate FAO 1-1: Increase Volume of Financial Services from the list of FAOs to select in the FA Application. The original document contained incorrect FAO number.

FOR FURTHER INFORMATION CONTACT: Terri A. Dawson, Executive Assistant to the CDFI Fund Director, 202-653-0341.

SUPPLEMENTARY INFORMATION:

Correction

In the Federal Register/Vol. 88, No. 42/Friday, March 3, 2023/Notices. On page 13512, in the second column, 13. FA Objectives, second paragraph: a. The CDFI Fund proposes to eliminate FAO 1-1: Increase Volume of Financial Services from the list of FAOs to select in the FA Application. Correct this section to read: a. The CDFI Fund proposes to eliminate FAO 1-2: Increase Volume of Financial Services from the list of FAOs to select in the FA Application.

Dated: March 16, 2023.
Terri A. Dawson,
Liaison, Community Development Financial Institutions Fund.

[FR Doc. 2023-05803 Filed 3-21-23; 8:45 am]

BILLING CODE 4810-05-P